DEPARTMENT OF HEALTH AND HUMAN SERVICES

National Institutes of Health

Center for Scientific Review; Amended Notice of Meeting

Notice is hereby given of a change in the meeting of the Tumor Microenvironment Study Section, October 21, 2013, 08:00 a.m. to October 22, 2013, 05:00 p.m., Embassy Suites at the Chevy Chase Pavilion, 4300 Military Road NW., Washington, DC 20015 which was published in the Federal Register on September 26, 2013, 78 FR 59361.

The meeting will be held at the National Institutes of Health, 6701 Rockledge Drive, Bethesda, MD 20892, on November 5, 2013, starting at 08:00 a.m. and ending at 07:00 p.m. The meeting is closed to the public.

Dated: October 23, 2013.
David Clary,
Program Analyst, Office of Federal Advisory Committee Policy.

[FR Doc. 2013-25491 Filed 10-28-13; 8:45 am]

BILLING CODE 4140-01-P